DEPARTMENT OF COMMERCE

International Trade Administration

[A-570-831]

Fresh Garlic from the People's Republic of China: Extension of Time Limits for Final Results of the Antidumping Duty Administrative Review

AGENCY: Import Administration, International Trade Administration, Department of Commerce.

DATES: Effective Date: April 14, 2010.

FOR FURTHER INFORMATION CONTACT: Scott Lindsay or Thomas Gilgunn, AD/CVD Operations, Office 6, Import Administration, International Trade Administration, U.S. Department of Commerce, 14th Street and Constitution Avenue, NW, Washington, DC 20230; telephone: (202) 482-0780 and (202) 482-4236, respectively.

Background

On December 24, 2008, the Department of Commerce (Department) published the initiation of an administrative review of fresh garlic from the People's Republic of China. See Initiation of Antidumping and Countervailing Duty Administrative Reviews and Request for Revocation in Part, 73 FR 79055 (December 24, 2008). On December 8, 2009, the Department published the preliminary results of this antidumping duty administrative review. See Fresh Garlic From the People's Republic of China: Preliminary Results of, and Intent To Rescind, in Part, the Antidumping Duty Administrative Review, 74 FR 64677 (December 8, 2009) (Preliminary Results). The period of review for this administrative review is November 1, 2007 through October 31, 2008. The final results are currently due on April 14, 2010.

Extension of Time Limits for Final Results

Section 751(a)(3)(A) of the Tariff Act of 1930, as amended (the Act), provides that the Department will issue the final results in an administrative review of an antidumping duty order within 120 days after the date on which the preliminary results are published. However, the Department may extend the deadline for completion of the final results of an administrative review to 180 days if it determines it is not practicable to complete the review within the foregoing time period. See section 751(a)(3)(A) of the Act and 19 CFR 351.213(h)(2).

The Department determines that it is not practicable to complete the final results of this administrative review by the current deadline of April 14, 2010. Specifically, the Department requires additional time to analyze issues raised by interested parties. Thus, we are extending the time for completion of the final results of this administrative review by 30 days, as permitted by section 751(a)(3)(A) of the Act. The final results are now due no later than May 17, 2010.

This notice is published in accordance with sections 751(a)(1) and 777(i)(1) of the Act.

Dated: April 8, 2010.
John M. Andersen,
Acting Deputy Assistant Secretary for Antidumping and Countervailing Duty Operations.

[FR Doc. 2010-8561 Filed 4-13-10; 8:45 am]

BILLING CODE 3510-DS-S